DEPARTMENT OF ENERGY

Federal Energy Regulatory Commission

Combined Notice of Filings #2

November 5, 2007.

Take notice that the Commission received the following electric rate filings:

Docket Numbers: ER08-110-000.

Applicants: Starwood Power-Midway, LLC.

Description: Starwood Power-Midway, LLC submits its application for an Order accepting FERC Electric Tariff, Original Volume 1 authorizing wholesale sales of electric energy and related services at market-based rates.

Filed Date: 10/29/2007.

Accession Number: 20071101-0098.

Comment Date: 5 p.m. Eastern Time on Monday, November 19, 2007.

Docket Numbers: ER08-111-000.

Applicants: ISO New England Inc.

Description: ISO New England, Inc and New England Power Pool Participants Committee submits 3rd Revised Sheet 7191 et al. reflecting proposed revisions to Market Rule 1 & Appendix F to reflect the addition of the North East Reliability Interconnection etc.

Filed Date: 10/29/2007.

Accession Number: 20071101-0096.

Comment Date: 5 p.m. Eastern Time on Monday, November 19, 2007.

Docket Numbers: ER08-112-000.

Applicants: Idaho Power Company.

Description: Idaho Power Company submits its Annual Informational Filing showing the formula rate and formula rate revenue requirements in effect under Schedules 7, 8, and 9 of the OATT for the period 10/1/07—9/30/08.

Filed Date: 10/29/2007.

Accession Number: 20071101-0095.

Comment Date: 5 p.m. Eastern Time on Monday, November 19, 2007.

Docket Numbers: ER08-114-000.

Applicants: Oncor Electric Delivery Company LLC.

Description: Oncor Electric Delivery Co, LLC submits a Notice of Succession.

Filed Date: 10/31/2007.

Accession Number: 20071101-0161.

Comment Date: 5 p.m. Eastern Time on Wednesday, November 21, 2007.

Docket Numbers: ER08-116-000.

Applicants: Avista Corporation.

Description: Avista Corporation submits unsigned pro forma Long-Term firm Point-to-Point Transmission Service Agreements with the City of Seattle, WA et al.

Filed Date: 10/31/2007.

Accession Number: 20071101-0100.

Comment Date: 5 p.m. Eastern Time on Wednesday, November 21, 2007.

Docket Numbers: ER08-117-000.

Applicants: Florida Power & Light Company.

Description: Florida Power & Light Co submits a revised Network Integration Transmission Service Agreement with Seminole Electric Coop, Inc.

Filed Date: 10/31/2007.

Accession Number: 20071101-0101.

Comment Date: 5 p.m. Eastern Time on Wednesday, November 21, 2007.

Docket Numbers: ER08-119-000.

Applicants: Florida Power & Light Company.

Description: Florida Power & Light Co submits a new Rate Schedule 308, Agreement for Specified Services with Oleander Power Project, LP.

Filed Date: 10/31/2007.

Accession Number: 20071101-0103.

Comment Date: 5 p.m. Eastern Time on Wednesday, November 21, 2007.

Docket Numbers: ER08-120-000.

Applicants: Florida Power & Light Company.

Description: Florida Power & Light Co submits a new Rate Schedule 309 Parllel Operation Agreement with Seminole Energy LLC.

Filed Date: 10/31/2007.

Accession Number: 20071101-0104.

Comment Date: 5 p.m. Eastern Time on Wednesday, November 21, 2007.

Docket Numbers: ER08-121-000.

Applicants: Florida Power & Light Company.

Description: Florida Power and Light Co submits a new Rate Schedule 310, Agreement for Specified Services with Seminole Energy LLC.

Filed Date: 10/31/2007.

Accession Number: 20071101-0105.

Comment Date: 5 p.m. Eastern Time on Wednesday, November 21, 2007.

Docket Numbers: ER08-122-000.

Applicants: American Electric Power Service Corp.

Description: AEP Texas North Co submits an amendment to the interconnection agreement with Airtricity Wild Horse Wind Farm, LLC.

Filed Date: 10/31/2007.

Accession Number: 20071101-0106.

Comment Date: 5 p.m. Eastern Time on Wednesday, November 21, 2007.

Docket Numbers: ER08-123-000.

Applicants: PJM Interconnection, L.L.C.

Description: Commonwealth Edison Company submits a notice of cancellation of its Large Generator Interconnection Agreement designated as Original Service Agreement C1036 et al.

Filed Date: 10/31/2007.

Accession Number: 20071101-0107.

Comment Date: 5 p.m. Eastern Time on Wednesday, November 21, 2007.

Docket Numbers: ER08-124-000.

Applicants: Dynegy Oakland, LLC.

Description: Dynegy Oakland, LLC submits revisions to its Reliability Must-Run Rate Schedules of its Reliability Agreement with the California Independent System Operator Corp.

Filed Date: 10/31/2007.

Accession Number: 20071101-0108.

Comment Date: 5 p.m. Eastern Time on Wednesday, November 21, 2007.

Docket Numbers: ER08-125-000.

Applicants: Luminant Energy Company LLC.

Description: Luminate Energy Co, LLC submits a notice of succession that reflects a name change from TXU Portfolio Management Co, LP to Luminate Energy Co, LLC effective 10/1/07.

Filed Date: 10/31/2007.

Accession Number: 20071102-0085.

Comment Date: 5 p.m. Eastern Time on Wednesday, November 21, 2007.

Docket Numbers: ER08-126-000.

Applicants: Dynegy South Bay, LLC.

Description: Dynegy South Bay, LLC submits revisions to certain Reliability Must-Run Rate Schedules of its Reliability Must Run Agreement with California Independent System Operator Corp.

Filed Date: 10/31/2007.

Accession Number: 20071102-0086.

Comment Date: 5 p.m. Eastern Time on Wednesday, November 21, 2007.

Docket Numbers: ER08-127-000.

Applicants: Avista Corporation.

Description: Avista Corporation submits unsigned pro forma Long-Term Firm Point-to-Point Transmission Service Agreements with the City of Seattle, WA.

Filed Date: 10/31/2007.

Accession Number: 20071102-0087.

Comment Date: 5 p.m. Eastern Time on Wednesday, November 21, 2007.

Docket Numbers: ER08-128-000.

Applicants: Mirant Delta, LLC.

Description: Mirant Delta, LLC submits notice of cancellation of its Rate Schedule FERC 4 and request for authorization of payment under Section 7.5 of Rate Schedule 4.

Filed Date: 10/31/2007.

Accession Number: 20071102-0088.

Comment Date: 5 p.m. Eastern Time on Wednesday, November 21, 2007.

Docket Numbers: ER08-129-000.

Applicants: Southern Operating Companies.

Description: Southern Companies' proposed adjustment to their Open Access Transmission Tariff Formula Rate to implement the Commission's 3/29/07 Pension Accounting Directive issued in AI07-1.

Filed Date: 10/31/2007.

Accession Number: 20071102-0089.

Comment Date: 5 p.m. Eastern Time on Wednesday, November 21, 2007.

Docket Numbers: ER08-130-000.

Applicants: Mirant Potrero, LLC.

Description: Mirant Potrero, LLC submits revisions to its Must-Run Service Agreement with the California Independent System Operator Corporation.

Filed Date: 10/31/2007.

Accession Number: 20071102-0090.

Comment Date: 5 p.m. Eastern Time on Wednesday, November 21, 2007.

Docket Numbers: ER08-131-000.

Applicants: Geysers Power Company, LLC.

Description: Geysers Power Company, LLC submits revisions to certain Rate Schedules of its Reliability Must-Run Agreement with California Independent System Operator Corporation.

Filed Date: 10/31/2007.

Accession Number: 20071102-0091.

Comment Date: 5 p.m. Eastern Time on Wednesday, November 21, 2007.

Docket Numbers: ER08-132-000.

Applicants: Gilroy Energy Center, LLC.

Description: Gilroy Energy Center, LLC submits annual revisions to certain Rate Schedules of its Reliability Must-Run Agreement with California Independent System Operator Corporation, effective as of 1/1/08.

Filed Date: 10/31/2007.

Accession Number: 20071102-0092.

Comment Date: 5 p.m. Eastern Time on Wednesday, November 21, 2007.

Docket Numbers: ER08-133-000.

Applicants: Los Medanos Energy Center, LLC.

Description: Los Medanos Energy Center, LLC submits annual revisions to certain Rate Schedules of its Must-Run Service Agreement with California Independent System Operator Corp, to become effective 1/1/08 and 11/01/07 submit a corrected Substitute First Revised Sheet 144 to FERC Electric Rate Schedule 2.

Filed Date: 10/31/2007; 11/01/2007.

Accession Number: 20071102-0093; 20071102-0067.

Comment Date: 5 p.m. Eastern Time on Wednesday, November 21, 2007.

Docket Numbers: ER08-134-000.

Applicants: ISO New England Inc.

Description: ISO New England Inc submits the 2008 Capital Budget and Capital Budget Quarterly filing for third quarter of 2007 under ER08-134.

Filed Date: 10/31/2007.

Accession Number: 20071102-0120.

Comment Date: 5 p.m. Eastern Time on Wednesday, November 21, 2007.

Docket Numbers: ER08-138-000.

Applicants: PJM Interconnection, L.L.C.

Description: PJM Interconnection, LLC submits service agreements with AMERESCO Deleware Energy, LLC et al.

Filed Date: 10/31/2007.

Accession Number: 20071102-0118.

Comment Date: 5 p.m. Eastern Time on Wednesday, November 21, 2007.

Docket Numbers: ER08-140-000.

Applicants: California Independent System Operator Corporation.

Description: California Independent System Operator Corp submits an amendment to its tariff implementing the CAISO's Location Constrained Resource Interconnection policy.

Filed Date: 10/31/2007.

Accession Number: 20071102-0119.

Comment Date: 5 p.m. Eastern Time on Wednesday, November 21, 2007.

Docket Numbers: ER08-166-000; ER08-167-000; ER08-168-000.

Applicants: CalPeak Power-El Cajon LLC; California Independent System Operator Corporation.

Description: CalPeak LLC, on behalf of CalPeak Power-El Cajon et al., submits modifications to certain schedules contained in the Reliability Must Run Service Agreement with Calilfornia Independent System Operator Corp.

Filed Date: 10/31/2007.

Accession Number: 20071105-0097.

Comment Date: 5 p.m. Eastern Time on Wednesday, November 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-22275 Filed 11-14-07; 8:45 am]

BILLING CODE 6717-01-P